DEPARTMENT OF HOMELAND SECURITY

Federal Emergency Management Agency

[Docket ID FEMA-2023-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of October 19, 2023 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Deputy Assistant Administrator for Risk Management, Federal Emergency Management Agency, Department of Homeland Security.

Community | Community map repository address
Chilton County, Alabama and Incorporated Areas
Docket No.: FEMA-B-2177
City of Calera | Engineering Department, 1074 10th Street, Calera, AL 35040.
City of Clanton | Building Department, 505 2nd Avenue North, Room 225, Clanton, AL 35045.
City of Jemison | City Hall, 14 Padgett Lane, Jemison, AL 35085.
Town of Thorsby | Town Hall, 21060 U.S. Highway 31, Thorsby, AL 35171.
Unincorporated Areas of Chilton County | Chilton County Road Department, 272 Airport Lane, Clanton, AL 35045.
Elmore County, Alabama and Incorporated Areas
Docket No.: FEMA-B-2177
City of Wetumpka | City Hall, 408 South Main Street, Wetumpka, AL 36092.
Town of Elmore | Town Hall, 485 Jackson Street, Elmore, AL 36025.
Unincorporated Areas of Elmore County | Elmore County Highway Department, 155 County Shop Road, Wetumpka, AL 36092.
Crawford County, Ohio and Incorporated Areas
Docket No.: FEMA-B-2241
City of Galion | City Hall, 301 Harding Way East, Galion, OH 44833.
Unincorporated Areas of Crawford County | Crawford County Engineer's Office, 815 Whetstone Street, Bucyrus, OH 44820.
DEllis County, Texas and Incorporated Areas
DDocket No.: FEMA-B-2217
City of Cedar Hill | Public Works Department, 285 Uptown Boulevard, Cedar Hill, TX 75104.
City of Ennis | City Hall, 107 North Sherman Street, Ennis, TX 75119.
City of Grand Prairie | Municipal Complex, Stormwater Department, 300 West Main Street, Grand Prairie, TX 75050.
City of Mansfield | City Hall, 1200 East Broad Street, Mansfield, TX 76063.
City of Midlothian | City Hall, 104 West Avenue E, Midlothian, TX 76065.
City of Oak Leaf | City Hall, 301 Locust Drive, Oak Leaf, TX 75154.
City of Ovilla | City Hall, 105 Cockrell Hill Road, Ovilla, TX 75154.
City of Pecan Hill | Pecan Hill City Hall, 1094 South Lowrance Road, Red Oak, TX 75154.
City of Red Oak | City Hall, 101 South Live Oak Street, Red Oak, TX 75154.
City of Venus | City Hall, 700 West US Highway 67, Venus, TX 76084.
City of Waxahachie | City Hall, 401 South Rogers Street, Waxahachie, TX 75165.
Unincorporated Areas of Ellis County | Ellis County Courthouse, 101 West Main Street, Waxahachie, TX 75165.
Thurston County, Washington and Incorporated Areas
Docket No.: FEMA-B-2225
City of Yelm | City Hall, 106 2nd Street Southeast, Yelm, WA 98597.
Nisqually Indian Tribe | Nisqually Indian Tribe Planning and Economic Development, 4820 She-Nah-Num Drive Southeast, Olympia, WA 98513.
Unincorporated Areas of Thurston County | Thurston County Courthouse, 2000 Lakeridge Drive Southwest, Building One, Olympia, WA 98502.
Chippewa County, Wisconsin and Incorporated Areas
Docket No.: FEMA-B-2218
City of Chippewa Falls | City Hall, Inspection Zoning Office, 30 West Central Street, Chippewa Falls, WI 54729.
Waukesha County, Wisconsin and Incorporated Areas
Docket No.: FEMA-B-2241
City of Brookfield | City Hall, 2000 North Calhoun Road, Brookfield, WI 53005.
City of Muskego | City Hall, W182S8200 Racine Avenue, Muskego, WI 53150.
City of New Berlin | City Hall, 3805 South Casper Drive, New Berlin, WI 53151.
City of Pewaukee | Pewaukee City Hall, W240N3065 Pewaukee Road, Pewaukee, WI 53072.
City of Waukesha | City Hall, 201 Delafield Street, Waukesha, WI 53188.
Unincorporated Areas of Waukesha County | Waukesha County Administration Building, 515 West Moreland Boulevard, Waukesha, WI 53188.
Village of Big Bend | Village Hall, W230S9185 Nevins Street, Big Bend, WI 53103.
Village of Dousman | Village Hall, 118 South Main Street, Dousman, WI 53118.
Village of Elm Grove | Village Hall, 13600 Juneau Boulevard, Elm Grove, WI 53122.
Village of Hartland | Village Hall, 210 Cottonwood Avenue, Hartland, WI 53029.
Village of Lannon | Village Hall, 20399 West Main Street, Lannon, WI 53046.
Village of Menomonee Falls | Village Hall, W156N8480 Pilgrim Road, Menomonee Falls, WI 53051.
Village of Mukwonago | Village Hall, 440 River Crest Court, Mukwonago, WI 53149.
Village of Pewaukee | Pewaukee Village Hall, 235 Hickory Street, Pewaukee, WI 53072.
Village of Sussex | Village Hall, N64W23760 Main Street, Sussex, WI 53089.
Village of Vernon | Village Hall, W249S8910 Center Drive, Vernon, WI 53103.
Village of Wales | Village Hall, 129 West Main Street, Wales, WI 53183.
Village of Waukesha | Village Hall, W250S3567 Center Road, Waukesha, WI 53189.

[FR Doc. 2023-11097 Filed 5-23-23; 8:45 am]

BILLING CODE 9110-12-P